SECURITIES AND EXCHANGE COMMISSION

[File No. 500-1]

VoIP, Inc.; Order of Suspension of Trading

April 13, 2009.

It appears to the Securities and Exchange Commission that there is a lack of current and accurate information concerning the securities of VoIP, Inc. (“VoIP”) because it has not filed an Annual Report on Form 10-K since December 31, 2006 or periodic or quarterly reports on Form 10-Q for any fiscal period subsequent to its fiscal quarter ending September 30, 2007.

The Commission is of the opinion that the public interest and the protection of investors require a suspension of trading in the securities of the above listed company.

Therefore, it is ordered, pursuant to Section 12(k) of the Securities Exchange Act of 1934, that trading in the securities in the above listed company is suspended for the period from 9:30 a.m. EDT, April 13, 2009 through 11:59 p.m. EDT, on April 24, 2009.

By the Commission.
Florence E. Harmon,
Deputy Secretary.

[FR Doc. E9-8743 Filed 4-13-09; 4:15 pm]

BILLING CODE 8010-01-P